DEPARTMENT OF HOMELAND SECURITY

Federal Emergency Management Agency

[Docket ID FEMA-2016-0007]

Public Assistance Program Minimum Standards

AGENCY: Federal Emergency Management Agency, DHS.

ACTION: Notice of availability.

SUMMARY: This document provides notice of the availability of the final policy Public Assistance Program Minimum Standards. The Federal Emergency Management Agency (FEMA) published a notice of availability and request for comment on the proposed policy in the April 21, 2016 Federal Register (81 FR 23503), and requested public comments no later than May 23, 2016. The comment period was then reopened on June 8, 2016 (81 FR 36940) and public comments were requested no later than July 8, 2016.

DATES: This policy is effective September 30, 2016.

ADDRESSES: The final policy is available online at http://www.regulations.gov and on FEMA's Web site at http://www.fema.gov. The proposed and final policy, all related Federal Register notices, and all public comments received during the comment period are available at http://www.regulations.gov under Docket ID FEMA-2016-0007. Hard copies of the final policy are available at the Office of Chief Counsel, Federal Emergency Management Agency, 8NE, 500 C St. SW., Washington, DC 20472.

FOR FURTHER INFORMATION CONTACT: Christopher Logan, Acting Director, Public Assistance Division, Federal Emergency Management Agency, 500 C Street SW., Washington, DC 20472, 202-212-2340.

SUPPLEMENTARY INFORMATION: The purpose of the policy is to establish minimum standards for Public Assistance projects in order to promote resiliency and achieve risk reduction under the authority of the Stafford Act §§ 323 and 406(e) (42 U.S.C. 5165a and 5172) and 44 CFR part 206, subpart M. When using Public Assistance funds to repair, replace, or construct buildings located in hazard-prone areas, applicants will use, at a minimum, the hazard-resistant design standards in or referenced in the International Building Code (IBC), the International Existing Building Code (IEBC), and/or the International Residential Code (IRC). Costs associated with meeting these standards are eligible for Public Assistance funding.

FEMA revised the policy content in response to public comments received as follows:

• To clarify that FEMA will evaluate more stringent, locally adopted codes or standards as described in 44 CFR part 206.226(d),

• To clarify that the most recent edition of the IBC, IEBC, or IRC as of the disaster declaration date will be used as the new Federal minimum design standard,

• To clarify that the policy only applies to the standards of the IBC, IEBC, and IRC related to hazard-resistant designs, and

• To provide information regarding how the policy will interact with floodplain management minimization standards as described in 44 CFR part 9.11(d) as well as with the calculation for repair versus replacement described in 44 CFR part 206.226(f).

The final policy does not have the force or effect of law.

Authority: 42 U.S.C. 5165a, 5172; 44 CFR 206.226, 206.400.

Matthew Payne,
Director, Policy Division, Office of Policy and Program Analysis, Federal Emergency Management Agency.

[FR Doc. 2016-24340 Filed 10-6-16; 8:45 am]

BILLING CODE 9111-23-P